ENVIRONMENTAL PROTECTION AGENCY

40 CFR Part 300

[FRL-6572-3]

National Oil and Hazardous Substances Pollution Contingency Plan; National Priorities List

AGENCY: Environmental Protection Agency.

ACTION: Proposed deletion of the Upper Deerfield Township Sanitary Landfill Superfund Site from the National Priorities List.

SUMMARY: The Environmental Protection Agency (EPA), Region II Office proposes to delete the Upper Deerfield Township Sanitary Landfill Superfund Site (Site), which is located in Upper Deerfield Township, Cumberland County, New Jersey, from the National Priorities List (NPL) and requests public comment on this action. The NPL constitutes appendix B of 40 CFR part 300, which is the National Oil and Hazardous Substances Pollution Contingency Plan (NCP), which EPA promulgated pursuant to section 105 of the Comprehensive Environmental Response, Compensation, and Liability Act of 1980 (CERCLA) as amended. EPA and the New Jersey Department of Environmental Protection have determined that the Site poses no significant threat to public health or the environment, as defined by CERCLA; and therefore, further remedial measures pursuant to CERCLA are not appropriate.

We are publishing a direct final action along with this proposed deletion without a prior proposal because the Agency views this as a noncontroversial revision and anticipates no significant adverse or critical comments. A detailed rationale for this approval is set forth in the direct final rule. If no significant adverse or critical comments are received, no further activity is contemplated. If EPA receives significant adverse or critical comments, the direct final action will be withdrawn and all public comments received will be addressed in a subsequent final rule based on this proposed rule. The EPA will not institute a second comment period. Any parties interested in commenting should do so at this time.

DATES: Comments concerning this action must be received by May 10, 2000.

ADDRESSES: Comments may be mailed to: Diego M. Garcia, Remedial Project Manager, Emergency and Remedial Response Division, U.S. Environmental Protection Agency, Region II, 290 Broadway, 19th Floor, New York, New York 10007-1866.

Comprehensive information on this Site is available for viewing at the Upper Deerfield Township Sanitary Landfill Superfund Site information repositories at the following locations: Upper Deerfield Municipal Building, Administrative Office, Building 1325, State Highway 77, Seabrook, New Jersey 08302, (609) 329-4000, and, U.S. EPA Records Center, 290 Broadway, Room 1828, New York, New York 10007-1866,Hours: 9 AM to 5 PM, Monday through Friday. Contact: Superfund Records Center, (212) 637-4308

FOR FURTHER INFORMATION CONTACT: Diego M. Garcia, Remedial Project Manager, U.S. Environmental Protection Agency, Region II, 290 Broadway, 19th Floor, New York, New York 10007-1866, (212) 637-4947, by FAX at (212) 637-4393 or via e-mail at garcia.diego@epamail.epa.gov.

SUPPLEMENTARY INFORMATION: For additional information, see the Direct Final Action which is located in the Rules section of this Federal Register.

Authority: 33 U.S.C. 1321(c)(2); 42 U.S.C. 9601-9657; E.O. 12777, 56 FR 54757, 3 CFR, 1991 Comp.; p.351; E.O. 12580, 52 FR 2923, 3 CFR, 1987 Comp.; p. 193.

Dated: March 15, 2000.
William J. Muszynski,
Acting Regional Administrator, Region II.

[FR Doc. 00-8525 Filed 4-7-00; 8:45 am]

BILLING CODE 6560-50-P